DEPARTMENT OF HEALTH AND HUMAN SERVICES

President's Advisory Council for Faith-based and Neighborhood Partnerships

In accordance with section 10(a)(2) of the Federal Advisory Committee Act (Pub. L. 92-463), the President's Advisory Council for Faith-based and Neighborhood Partnerships announces the following meetings:

Name: President's Advisory Council for Faith-based and Neighborhood Partnerships Council Meetings.

Times and Dates:

Tuesday, November 17th, 4 p.m. Eastern.

Tuesday, December 15th, 4 p.m. Eastern.

Tuesday, January 19th, 4 p.m. Eastern.

Place: Meetings will by conference call. Please RSVP to receive the call-in information.

Status: Open to the public, limited only by the space available. Conference call line will be available.

Purpose: The Council brings together leaders and experts in fields related to the work of faith-based and neighborhood organizations in order to: Identify best practices and successful modes of delivering social services; evaluate the need for improvements in the implementation and coordination of public policies relating to faith- based and other neighborhood organizations; and make recommendations for changes in policies, programs, and practices.

Contact Person for Additional Information: Mara Vanderslice, 202-260-1931, mara.vanderslice@hhs.gov.

Supplementary Information: Please contact Mara Vanderslice for more information about how to join via conference call line.

Agenda: Topics to be discussed include deliberation on draft recommendations for Council report.

Dated: November 1, 2009.
Mara Vanderslice,
Special Assistant.

[FR Doc. E9-27097 Filed 11-10-09; 8:45 am]

BILLING CODE 4154-07-P